DEPARTMENT OF THE INTERIOR

National Park Service

Notice of Intent to Repatriate Cultural Items in the Possession of the Cranbrook Institute of Science, Bloomfield Hills, MI

AGENCY: National Park Service.

ACTION: Notice.

Notice is hereby given under the Native American Graves Protection and Repatriation Act, 43 CFR 10.10 (a)(3), of the intent to repatriate cultural items in the possession of the Cranbrook Institute of Science that meet the definition of “sacred objects” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The two cultural items are a Hopi Kachina Initiation altar and a Hopi Water Serpent altar. The Kachina Initiation altar consists of a plaster sand painting for the floor and is accompanied by eight groups of altar adornment, including eagle feathers, ears of colored corn, stone celts, a wooden weaving implement, and shell and stone beads. The Water Serpent altar consists of a large canvas screen divided into four panels of painted images. Four carved snakes or “water serpents” extend outward in front of the altar screen.

The Hopi Kachina Initiation altar and the Hopi Water Serpent altar were purchased by Cranbrook Institute of Science in 1933 from the estate of Sir Henry Wellcome, who obtained the altars from the Field Museum of Natural History in Chicago, IL, following an exhibit. The 2 altars belonged to a series of 12 Hopi altars constructed by Hopi priests and artists specifically for the Field Museum exhibit.

Information provided with the altars at the time of purchase describes the Field Museum exhibit and the circumstances of the priests' and artists' commission to construct the altars at the Field Museum from components that had been prefabricated in Arizona. Description of the ceremonies and the items used in the ceremonies are addressed in anthropology literature, such as Hopi Kachina, by E. A. Kennard, The Kachina and the White Man, by Frederick Dockstader, and in the text that accompanied the original exhibit.

Based on the above-mentioned information, officials of the Cranbrook Educational Community, parent organization for Cranbrook Institute of Science, have determined that, pursuant to 43 CFR 10.2 (d)(3), these cultural items are specific ceremonial objects needed by traditional Native American religious leaders for the practice of traditional Native American religions by their present-day adherents. Officials of the Cranbrook Institute of Science also have determined that, pursuant to 43 CFR 10.2 (e), there is a relationship of shared group identity that can be reasonably traced between these cultural items and the Hopi Tribe of Arizona.

This notice has been sent to officials of the Hopi Tribe of Arizona. Representatives of any other Indian tribe that believes itself to be culturally affiliated with these cultural items should contact Michael Stafford, Ph.D., Curator of Anthropology and Head of Science Department, Cranbrook Institute of Science, 39221 Woodward Avenue, Bloomfield Hills, MI 48303-0801, telephone (248) 645-3223, before March 12, 2001. Repatriation of these cultural items to the Hopi Tribe of Arizona may begin after that date if no additional claimants come forward.

Dated: January 24, 2001.
John Robbins,
Assistant Director, Cultural Resources Stewardship and Partnerships.

[FR Doc. 01-3357 Filed 2-8-01; 8:45 am]

BILLING CODE 4310-70-F